DEPARTMENT OF LABOR

Office of the Secretary

Child Labor Education Initiative

AGENCY: Bureau of International Labor Affairs, U.S. Department of Labor.

ACTION: Notice of intent to solicit cooperative agreement applications.

SUMMARY: The U.S. Department of Labor (USDOL), Bureau of International Labor Affairs (ILAB), intends to award approximately U.S. $30 million to organizations to develop and implement formal, non-formal, and vocational education programs as a means to combat exploitative child labor in the following countries: Benin, Brazil, Burkina Faso, Cambodia, Dominican Republic, Mali, Morocco, Philippines and Uganda. ILAB will solicit cooperative agreement applications from qualified organizations (i.e., any commercial, international, or non-profit organization capable of successfully developing and implementing education programs) to implement programs that promote school attendance and provide educational opportunities for working children or children at risk of starting working. The programs should focus on innovative ways to address the many gaps and challenges to basic education found in the countries mentioned above.

Dates: The solicitations for cooperative agreement applications will be published in the Federal Register and will remain open for at least 30 days from the date of publication. All awards will be made before September 30, 2003.

ADDRESSES: Once solicitations are published in the Federal Register, applications must be delivered to: U.S. Department of Labor, Procurement Services Center, 200 Constitution Avenue, NW., Room N-5416, Attention: Lisa Harvey, Washington, DC 20210.

FOR FURTHER INFORMATION CONTACT: Lisa Harvey. E-mail address: harvey-lisa@dol.gov. All inquiries should make reference to the USDOL Child Labor Education Initiative—Solicitations for Cooperative Agreement Applications.

SUPPLEMENTARY INFORMATION: Since 1995, USDOL has supported a worldwide technical assistance program implemented by the International Labor Organization's International Program on the Elimination of Child Labor (ILO-IPEC). In that time, ILAB has provided $195 million to ILO-IPEC and other organizations for international technical assistance to combat abusive child labor around the world.

In its FY 2002 appropriations, in addition to funds earmarked for ILO-IPEC, USDOL received $37 million for the Child Labor Education Initiative to fund programs that increase access to quality basic education in areas with a high incidence of abusive and exploitative child labor. The cooperative agreements awarded under these solicitations will be funded by this initiative.

USDOL's Education Initiative nurtures the development, health, safety, and enhanced future employability of children around the world by increasing access to basic education for children removed from child labor or at risk of entering it. Eliminating child labor will depend in part on improving access to, quality of, and relevance of education. Without improving educational quality and relevance, children withdrawn from child labor may not have viable alternatives and may return to work or resort to other hazardous means of subsistence.

The Education Initiative has the following four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

When working to increase access to quality basic education, USDOL strives to complement existing efforts to eradicate the worst forms of child labor, to build on the achievements of and lessons learned from these efforts, to expand impact and build synergies among actors, and to avoid duplication of resources and efforts.

Signed at Washington, DC, this 12th day of December, 2002.
Lawrence J. Kuss,
Grant Officer.

[FR Doc. 02-31784 Filed 12-17-02; 8:45 am]

BILLING CODE 4510-28-P